DEPARTMENT OF TRANSPORTATION

Federal Aviation Administration

14 CFR Part 39

[Docket No. FAA-2009-0381; Directorate Identifier 2009-NM-008-AD; Amendment 39-16016; AD 2009-18-19]

RIN 2120-AA64

Airworthiness Directives; Airbus Model A330-200 and -300 Series Airplanes and Model A340-200 and -300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

An A340 operator has reported an uncommanded engine N°4 shut down during taxi after landing.

The root cause of this event has been identified as failure of the fuel pump Non Return Valve (NRV) preventing the collector cell jet pump from working. This led to engine N°4 collector cell fuel level to drop below the pump inlet and consequently causing engine N°4 flame out.

* * * * *

Multiple NRV failures in combination with failure modes trapping fuel could potentially increase the quantity of unusable fuel on aircraft possibly leading to fuel starvation which could result in engine in-flight shut down and would constitute an unsafe condition.

* * * * *

We are issuing this AD to require actions to correct the unsafe condition on these products.

DATES: This AD becomes effective October 14, 2009.

The Director of the Federal Register approved the incorporation by reference of certain publications listed in this AD as of October 14, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on April 29, 2009 (74 FR 19464). That NPRM proposed to correct an unsafe condition for the specified products. The MCAI states:

An A340 operator has reported an uncommanded engine N°4 shut down during taxi after landing.

The root cause of this event has been identified as failure of the fuel pump Non Return Valve (NRV) preventing the collector cell jet pump from working. This led to engine N°4 collector cell fuel level to drop below the pump inlet and consequently causing engine N°4 flame out.

A330 aircraft which have a similar design are also impacted by this issue.

Multiple NRV failures in combination with failure modes trapping fuel could potentially increase the quantity of unusable fuel on aircraft possibly leading to fuel starvation which could result in engine in-flight shut down and would constitute an unsafe condition.

To prevent such an event, this Airworthiness Directive (AD) requires a periodic operational test to check the correct operation of NRV and to apply the associated corrective actions.

The corrective action includes replacing any failed NRV with a new NRV. You may obtain further information by examining the MCAI in the AD docket.

Comments

We gave the public the opportunity to participate in developing this AD. We considered the comment received.

Request To Clarify Applicability Statement and Paragraphs (f)(1) and (f)(2) of the NPRM

Airbus suggests that we revise the NPRM to specify all models in the Applicability statement and in paragraphs (f)(1) and (f)(2) of the proposed AD.

We agree. For clarity, we have revised the applicability statement and paragraphs (f)(1), (f)(2), (f)(3)(i), and (f)(3)(ii) of this AD to identify all affected models as specified in the applicable type certificate data sheet.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD affects 50 products of U.S. registry. We also estimate that it takes about 5 work-hours per product to comply with the basic requirements of this AD. The average labor rate is $80 per work-hour. Based on these figures, we estimate the cost of this AD to the U.S. operators to be $20,000, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-18-19 Airbus: Amendment 39-16016. Docket No. FAA-2009-0381; Directorate Identifier 2009-NM-008-AD.

Effective Date

(a) This airworthiness directive (AD) becomes effective October 14, 2009.

Affected ADs

(b) None.

Applicability

(c) This AD applies to the airplanes identified in paragraphs (c)(1) and (c)(2) of the AD, certificated in any category.

(1) Airbus Model A330-201, -202, -203, -223, -243, -301, -302, -303, -321, -322, -323, -341, -342, and -343 series airplanes, all serial numbers.

(2) Airbus Model A340-211, -212, -213, -311, -312, and -313 series airplanes, all serial numbers.

Subject

(d) Air Transport Association (ATA) of America Code 28: Fuel.

Reason

(e) The mandatory continuing airworthiness information (MCAI) states:

An A340 operator has reported an uncommanded engine N°4 shut down during taxi after landing.

The root cause of this event has been identified as failure of the fuel pump Non Return Valve (NRV) preventing the collector cell jet pump from working. This led to engine N°4 collector cell fuel level to drop below the pump inlet and consequently causing engine N°4 flame out.

A330 aircraft which have a similar design are also impacted by this issue.

Multiple NRV failures in combination with failure modes trapping fuel could potentially increase the quantity of unusable fuel on aircraft possibly leading to fuel starvation which could result in engine in-flight shut down and would constitute an unsafe condition.

To prevent such an event, this Airworthiness Directive (AD) requires a periodic operational test to check the correct operation of NRV and to apply the associated corrective actions.

The corrective action includes replacing any failed NRV with a new NRV.

Actions and Compliance

(f) Unless already done, do the following actions.

(1) For Airbus Model A330-201, -202, -203, -223, -243, -301, -302, -303, -321, -322, -323, -341, -342, and -343 series airplanes: At the later of the times in paragraphs (f)(1)(i) and (f)(1)(ii) of this AD, perform an operational test for correct functioning of the NRV and apply all applicable corrective actions, in accordance with instructions defined in Airbus Mandatory Service Bulletin A330-28-3108, including Appendix 1, dated October 13, 2008. Do all applicable corrective actions before further flight.

(i) Within 24 months or 8,000 flight hours after the effective date of this AD, whichever occurs first.

(ii) Before the accumulation of 10,000 total flight hours after the first flight of the airplane.

(2) For Airbus Model A340-211, -212, -213, -311, -312, and -313 series airplanes: At the later of the times in paragraphs (f)(2)(i) and (f)(2)(ii) of this AD, perform an operational test for correct functioning of the NRV and apply all applicable corrective actions, in accordance with instructions defined in Airbus Mandatory Service Bulletin A340-28-4123, including Appendix 1, dated October 13, 2008. Do all applicable corrective actions before further flight.

(i) Within 24 months or 9,000 flight hours after the effective date of this AD, whichever occurs first.

(ii) Before the accumulation of 25,000 total flight hours after the first flight of the airplane.

(3) Repeat the operational test specified in paragraph (f)(1) or (f)(2) of this AD as applicable, at the applicable interval in paragraph (f)(3)(i) or (f)(3)(ii) of this AD.

(i) For Airbus Model A330-201, -202, -203, -223, -243, -301, -302, -303, -321, -322, -323, -341, -342, and -343 series airplanes: At intervals not to exceed 10,000 flight hours.

(ii) For Airbus Model A340-211, -212, -213, -311, -312, and -313 series airplanes: At intervals not to exceed 25,000 flight hours.

(4) Submit a report of the findings (both positive and negative) of the inspection required by paragraph (f)(1) or (f)(2) of this AD to Airbus, at the time specified in paragraph (f)(4)(i) or (f)(4)(ii) of this AD, as applicable. The report must include the information specified in Appendix 1 of Airbus Mandatory Service Bulletin A330-28-3108 or A340-28-4123, both dated October 13, 2008, as applicable. Send the report to Airbus Department SEEE6, Airbus Customer Services Directorate, 1 Rond Point Maurice Bellonte, 31707 Blagnac Cedex France, Attn: SDC32 Technical Data and Documentation Services; fax: +33 5 61 93 28 06; e-mail: sb.reporting@airbus.com.

(i) If the inspection was done after the effective date of this AD: Submit the report within 30 days after the inspection.

(ii) If the inspection was done on or prior to the effective date of this AD: Submit the report within 30 days after the effective date of this AD.

FAA AD Differences

Note 1: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal maintenance inspector (PMI) or the principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0209, dated November 27, 2008; Airbus Mandatory Service Bulletins A330-28-3108 and A340-28-4123, both including Appendix 1, both dated October 13, 2008; for related information.

Material Incorporated by Reference

(i) You must use Airbus Mandatory Service Bulletin A330-28-3108, including Appendix 1, dated October 13, 2008; or Airbus Mandatory Service Bulletin A340-28-4123, including Appendix 1, dated October 13, 2008; as applicable; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 26, 2009.
Ali Bahrami,
Manager, Transport Airplane Directorate, Aircraft Certification Service.

[FR Doc. E9-21409 Filed 9-8-09; 8:45 am]

BILLING CODE 4910-13-P